DEPARTMENT OF STATE

[Public Notice 5971]

Advisory Committee on International Economic Policy; Notice of Open Meeting

The Advisory Committee on International Economic Policy (ACIEP) will meet from 2 p.m. to 3:45 p.m. on Tuesday, December 18, 2007, at the U.S. Department of State, 2201 C Street, NW., Room 1107, Washington, DC. The meeting will be hosted by Assistant Secretary of State for Economic, Energy and Business Affairs Daniel S. Sullivan and Committee Chairman R. Michael Gadbaw. The ACIEP serves the U.S. Government in a solely advisory capacity, and provides advice concerning issues and challenges in international economic policy. The meeting will focus on Total Economic Engagement, including a regional focus on Latin America, the pending U.S. free trade agreements with Colombia, Peru, Panama, and Korea, and Subcommittee reports and discussions led by the Strategic Regions Subcommittee and the Economic Sanctions Subcommittee.

This meeting is open to the public as seating capacity allows. Entry to the building is controlled; to obtain pre-clearance for entry, members of the public planning to attend should provide, by Friday, December 14, their name, professional affiliation, valid government-issued ID number (i.e., U.S. Government ID [agency], U.S. military ID [branch], passport [country], or drivers license [state]), date of birth, and citizenship to Sherry Booth by fax (202) 647-5936, e-mail (BoothSL@state.gov), or telephone (202) 647-9204. One of the following forms of valid photo identification will be required for admission to the State Department building: U.S. driver's license, U.S. Government identification card, or any valid passport. Enter the Department of State from the C Street lobby. In view of escorting requirements, non-Government attendees should plan to arrive not less than 15 minutes before the meeting begins.

For additional information, contact Senior Coordinator Nancy Smith-Nissley, Office of Economic Policy Analysis and Public Diplomacy, Bureau of Economic, Energy and Business Affairs, at (202) 647-1682 or Smith-NissleyN@state.gov.

Dated: November 28, 2007.
David R. Burnett,
Office Director, Office of Economic Policy Analysis and Public Diplomacy, Department of State.

[FR Doc. E7-23691 Filed 12-5-07; 8:45 am]

BILLING CODE 4710-07-P